DEPARTMENT OF ENERGY

Federal Energy Regulatory Commission

[RD26-1-000; RD26-2-000; RD26-3-000]

North American Electric Reliability Corporation; Notice of Staff Attendance at North American Electric Reliability Corporation Industry Webinar and Planning and Operational Studies Drafting Teams Meetings

The Federal Energy Regulatory Commission (Commission) hereby gives notice that members of the Commission and/or Commission staff may attend the following meetings:

North American Electric Reliability Corporation: Industry Webinar: Project 2025-03 Order No. 901 Operational Studies, WebEx

February 12, 2026 | 2:00 p.m.-3:00 p.m. Eastern

Further information regarding this webinar and how to join remotely may be found at: 02-02-26 Industry Webinar: Project 2025-03 Order No. 901 Operational Studies.

North American Electric Reliability Corporation: Project 2025-03 Order No. 901 Operational Studies Drafting Team Meeting, WebEx:

February 17, 2026 | 2:00 p.m.-4:00 p.m. Eastern

Further information regarding this meeting and how to join remotely may be found at: https://www.nerc.com/events/02-17-26-project-2025-03-order-no.-901-operational-studies-drafting-team-meeting.

North American Electric Reliability Corporation: Project 2025-04 Order No. 901 Operational Studies Drafting Team Meeting, WebEx

February 19, 2026 | 2:00 p.m.-4:00 p.m. Eastern

Further information regarding this meeting and how to join remotely may be found at: https://www.nerc.com/events/02-19-26-project-2025-03-order-no.-901-operational-studies-drafting-team-meeting.

The discussions at the meetings, which are open to the public, may address matters at issue in the following Commission proceedings:

Docket No. RD26-1-000 North American Electric Reliability Corporation

Docket No. RD26-2-000 North American Electric Reliability Corporation

Docket No. RD26-3-000 North American Electric Reliability Corporation

For further information, please contact Neil Yallabandi at (202) 502-8260 or Neil.Yallabandi@ferc.gov.

(Authority: 18 CFR 2.1.)

Dated: February 10, 2026.
Carlos D. Clay,
Deputy Secretary.

[FR Doc. 2026-02942 Filed 2-12-26; 8:45 am]

BILLING CODE 6717-01-P